DEPARTMENT OF COMMERCE

International Trade Administration

[A-570-040]

Truck and Bus Tires From the People's Republic of China: Antidumping Duty Order

AGENCY: Enforcement and Compliance, International Trade Administration, Department of Commerce.

SUMMARY: On November 1, 2018 the U.S. Court of International Trade (CIT) remanded the International Trade Commission's (ITC) final negative injury determination on truck and bus tires from the People's Republic of China (China). On January 30, 2019, the ITC filed its final remand determination, finding material injury to an industry in the United States by reason of imports of truck and bus tires from China. Based on affirmative final determinations by the Department of Commerce (Commerce) and the ITC, Commerce is issuing an antidumping duty order on truck and bus tires from China. Therefore, Commerce will direct U.S. Customs and Border Protection (CBP) to suspend liquidation and collect cash deposits on entries of truck and bus tires from China at the ad valorem rates listed below.

DATES: Applicable February 15, 2019.

FOR FURTHER INFORMATION CONTACT: Yang Jin Chun or Andre Gziryan, AD/CVD Operations, Office I, Enforcement and Compliance, International Trade Administration, U.S. Department of Commerce, 1401 Constitution Avenue NW, Washington, DC 20230; telephone: (202) 482-5760 and (202) 482-2201, respectively.

SUPPLEMENTARY INFORMATION:

Background

In accordance with sections 735(d) and 777(i)(1) of the Tariff Act of 1930, as amended (the Act) and 19 CFR 351.210(c), on January 27, 2017, Commerce published affirmative final determinations of sales at less than fair value and critical circumstances in the investigation of truck and bus tires from China.¹ On March 13, 2017, the ITC notified Commerce of its final determination that an industry in the United States is not materially injured or threatened with material injury within the meaning of section 735(b)(1)(A) of the Act by reason of imports of truck and bus tires from China at less than fair value.² Accordingly, Commerce instructed CBP to liquidate entries of subject merchandise without regard to antidumping duties.³ On November 1, 2018, the CIT remanded the ITC's final negative determination.⁴ On January 30, 2019, upon remand, the ITC issued its final determination, in which the ITC found that an industry in the United States is materially injured by reason of imports of truck and bus tires from China. However, in its final determination upon remand, the ITC found that critical circumstances do not exist with respect to imports of subject merchandise from China that are subject to Commerce's final affirmative critical circumstances finding.

¹ See Truck and Bus Tires from the People's Republic of China: Final Affirmative Determinations of Sales at Less Than Fair Value and Critical Circumstances, 82 FR 8599 (January 27, 2017) (Final Determinations).

² See Letter from the ITC to Commerce, dated March 13, 2017. See also Truck and Bus Tires from China, 82 FR 14232 (March 17, 2017), and Truck and Bus Tires from the People's Republic of China, Investigation No. 701-TA-556 and 508 and 731-TA-1311, USITC Pub. 4673 (March 2017) (Final).

³ See CBP Message No. 7094307 dated April 4, 2017.

⁴ See United Steel, Paper and Forestry, Rubber, Manufacturing, Energy, Allied Industrial and Service Workers International Union, AFL-CIO, CLC, v. United States, Court No. 17-00078, Slip Op. 18-151 (Ct. Int'l Trade Nov. 1, 2018).

On February 8, 2019, pursuant to the U.S. Court of Appeals for the Federal Circuit's (CAFC) opinion in Diamond Sawblades Manufacturers Coalition v. United States, 626 F.3d 1374, 1381 (Fed. Cir. 2010), the ITC notified Commerce of this determination upon remand.⁵ In Diamond Sawblades Manufacturers Coalition, the CAFC clarified that the same procedures for issuance of an order and collection of cash deposits apply when a material injury determination is made upon remand, and that the ITC should provide notice to Commerce of its remand determination at the time that it is issued, notwithstanding the pendency of ongoing litigation.⁶ Moreover, the CAFC held that Commerce's duty to publish an order is triggered by the ITC's notification of its affirmative injury determination, rather than the date of the publication of the notice of such determination.⁷

⁵ See the Letter from the ITC to Commerce dated February 8, 2019.

⁶ See Diamond Sawblades Manufacturers Coalition, 626 F.3d at 1381-82.

⁷ Id. at 1379, n.2.

Scope of the Order

The products covered by this antidumping duty order are truck and bus tires. For a complete description for the scope of the order, see the “Scope of the Order” in the Appendix of this notice.

Antidumping Duty Order

As stated above, upon remand, the ITC issued its final affirmative determination. In accordance with section 735(d) of the Act and Diamond Sawblades Manufacturers Coalition v. United States, 626 F.3d 1374 (Fed. Cir. 2010), the ITC notified Commerce of its final determination in its investigation, in which it found that an industry in the United States is materially injured by reason of imports of truck and bus tires from China.⁸ Therefore, in accordance with section 735(c)(2) of the Act, we are publishing this antidumping duty order.

⁸ Id.

Accordingly, in accordance with section 736(a)(1) of the Act, Commerce will direct CBP to assess, upon further instruction by Commerce, antidumping duties equal to the amount by which the normal value of the merchandise exceeds the export price (or constructed export price) of the merchandise, for all relevant entries of truck and bus tires from China. These antidumping duties will be assessed on unliquidated entries of truck and bus tires from China entered, or withdrawn from warehouse, for consumption on or after the effective date of this antidumping duty order.

Suspension of Liquidation

In accordance with section 735(c)(1)(B) of the Act, effective the publication date of this order, we will instruct CBP to suspend liquidation on all entries of truck and bus tires from China. These instructions suspending liquidation will remain in effect until further notice.

We will also instruct CBP to require cash deposits at rates equal to the estimated weighted-average dumping margins indicated below. Accordingly, effective the publication date of this order, CBP will require, at the same time as importers would normally deposit estimated duties on this subject merchandise, a cash deposit at rates equal to the estimated weighted-average dumping margins adjusted for domestic pass-through subsidies and export subsidies found in the amended final determination of the companion countervailing duty investigation of this merchandise imported from China.⁹

⁹ See Final Determinations, 82 FR at 8604. See also Truck and Bus Tires from the People's Republic of China: Amended Final Determination and Countervailing Duty Order (Countervailing Duty Order), signed concurrently with this notice. In the Final Determination, we explained that the countervailing duty rate attributable to domestic pass-through subsidies and export subsidies is 27.59 percent and, if the ITC makes an affirmative final determination, the adjusted cash deposit rate will be zero percent for Prinx Chengshan (Shandong) Tire Co., Ltd. (PCT), the non-selected separate rate respondents, and the China-wide Entity. See Final Determinations, 82 FR at 8604. The amended final determination of the concurrent countervailing duty investigation has changed the countervailing duty rate attributable to domestic pass-through subsidies and export subsidies to 19.74 percent. See Countervailing Duty Order at 3, n.9, and the Memorandum, “Truck and Bus Tires from the People's Republic of China: Amended Cash Deposit Rate for the China-Wide Entity” dated concurrently with this notice. We deducted this 19.74 percentage point from the calculate margins for PCT, the non-selected separate rate respondents, and the China-wide entity. This amended countervailing duty rate changes the adjusted cash deposit rate for China-wide entity from zero percent to 2.83 percent but the adjusted cash deposit rates for PCT and the non-selected separate rate respondents remain at zero percent.

Critical Circumstances

In its final affirmative determination upon remand, the ITC found no critical circumstances on imports of truck and bus tires from China. Accordingly, Commerce will not instruct CBP to suspend entries pursuant to section 733(e)(2) of the Act.

Estimated Weighted-Average Dumping Margins

The estimated weighted-average dumping margins are as follows:

Exporter | Producer | Weighted- average margin (percent)
Prinx Chengshan (Shandong) Tire Co., Ltd | Prinx Chengshan (Shandong) Tire Co., Ltd | 9.00
Actyon Tyre Resources Co., Limited | Chao Yang Long March Tyre Co., Ltd | 9.00
Actyon Tyre Resources Co., Limited | Shandong Haohua Tires Co., Ltd | 9.00
Actyon Tyre Resources Co., Limited | Shandong Longyue Rubber Co., Ltd | 9.00
Aosen Tire Co., Ltd | Qingdao Taifa Group Co., Ltd | 9.00
Aosen Tire Co., Ltd | Shandong Chuanghua Tire Co., Ltd | 9.00
Aosen Tire Co., Ltd | Shandong Hawk International Rubber Industry Co., Ltd | 9.00
Aosen Tire Co., Ltd | Shandong Hugerubber Co., Ltd | 9.00
Aosen Tire Co., Ltd | Shandong Yongsheng Rubber Group Co., Ltd | 9.00
Aosen Tire Co., Ltd | Shandong Zhentai Group Co., Ltd | 9.00
Beijing BOE Commerce Co., Ltd | China National Tyre & Rubber Guilin Co., Ltd | 9.00
Beijing BOE Commerce Co., Ltd | Shandong Hawk International Rubber Industry Co., Ltd | 9.00
Best Choice International Trade Co., Ltd | Aeolus Tyre Co., Ltd | 9.00
Best Choice International Trade Co., Ltd | Qingdao Yellow Sea Rubber Co., Ltd | 9.00
Best Choice International Trade Co., Ltd | Shan Dong Kaixuan Rubber Co., Ltd | 9.00
Best Choice International Trade Co., Ltd | Sichuan Kalevei Technology Co., Ltd | 9.00
Best Choice International Trade Co., Ltd | ZC Rubber Group Co., Ltd | 9.00
Bestyre International Industrial Limited | Chaoyang Long March Tyre Co., Ltd | 9.00
Bestyre International Industrial Limited | Chaoyang Long March Tyre New Co., Ltd | 9.00
BOE Commerce Co., Ltd | Aeolus Tyre Co., Ltd | 9.00
BOE Commerce Co., Ltd | China National Tyre & Rubber Guilin Co., Ltd | 9.00
BOE Commerce Co., Ltd | Shandong Anchi Tyres Co., Ltd | 9.00
BOE Commerce Co., Ltd | Shandong Hawk International Rubber Industry Co., Ltd | 9.00
BOE Commerce Co., Ltd | Shandong Hengyu Rubber Co., Ltd | 9.00
BOE Commerce Co., Ltd | Shandong Hengyu Science & Technology Co., Ltd | 9.00
BOE Commerce Co., Ltd | Shandong Jinyu Tyre Co., Ltd | 9.00
BOE Commerce Co., Ltd | Zhucheng Guoxin Rubber Co., Ltd | 9.00
Briway Tire Co., Ltd | Shandong Kaixuan Rubber Co., Ltd | 9.00
Briway Tire Co., Ltd | Shandong Province Sanli Tire Manufactured Co., Ltd | 9.00
Briway Tire Co., Ltd | Shandong Vheal Group Co., Ltd | 9.00
Briway Tire Co., Ltd | Shandong Wanda Boto Tyre Co., Ltd | 9.00
Briway Tire Co., Ltd | Shandong Yinbao Tyre Group Co., Ltd | 9.00
Briway Tire Co., Ltd | Shandong Yuelong Group | 9.00
Briway Tire Co., Ltd | Sichuan Tyre & Rubber Co., Ltd | 9.00
Briway Tire Co., Ltd | Weifang Shunfuchang Rubber and Plastic Products Co., Ltd | 9.00
Briway Tire Co., Ltd | Sichuan Kalevei Technology Co., Ltd | 9.00
Chonche Auto Double Happiness Tyre Corp. Ltd | Chonche Auto Double Happiness Tyre Corp. Ltd | 9.00
Chongqing Hankook Tire Co., Ltd | Chongqing Hankook Tire Co., Ltd | 9.00
Cooper Tire (China) Investment Co., Ltd | Qingdao Ge Rui Da Rubber Co., Ltd | 9.00
Daking Industrial Co., Limited | Shandong Huasheng Rubber Co., Ltd | 9.00
Fleming Limited | Qingdao Doublestar Tire Industrial Co., Ltd | 9.00
Fleming Limited | Qingdao Yellow Sea Rubber Co., Ltd | 9.00
Fleming Limited | Shandong Wanshine Tire Co., Ltd | 9.00
Fleming Limited | Shandong Yinbao Tyre Group Co., Ltd | 9.00
Giti Tire (Anhui) Company Ltd | Giti Tire (Anhui) Company Ltd | 9.00
Giti Tire (Anhui) Company Ltd | Giti Tire (Fujian) Company Ltd | 9.00
Giti Tire (Anhui) Company Ltd | Giti Tire (Yinchuan) Company Ltd | 9.00
Giti Tire (Fujian) Company Ltd | Giti Tire (Anhui) Company Ltd | 9.00
Giti Tire (Fujian) Company Ltd | Giti Tire (Fujian) Company Ltd | 9.00
Giti Tire (Fujian) Company Ltd | Giti Tire (Yinchuan) Company Ltd | 9.00
Giti Tire (Yinchuan) Company Ltd | Giti Tire (Anhui) Company Ltd | 9.00
Giti Tire (Yinchuan) Company Ltd | Giti Tire (Fujian) Company Ltd | 9.00
Giti Tire (Yinchuan) Company Ltd | Giti Tire (Yinchuan) Company Ltd | 9.00
Giti Tire Global Trading Pte. Ltd | Giti Tire (Anhui) Company Ltd | 9.00
Giti Tire Global Trading Pte. Ltd | Giti Tire (Fujian) Company Ltd | 9.00
Giti Tire Global Trading Pte. Ltd | Giti Tire (Yinchuan) Company Ltd | 9.00
Goodyear Dalian Tire Co., Ltd | Goodyear Dalian Tire Co., Ltd | 9.00
Hongkong Tiancheng Investment & Trading Co., Limited | Shandong Linglong Tyre Co., Ltd | 9.00
Hongtyre Group Co. | Prinx Chengshan (Shandong) Tire Co., Ltd | 9.00
Hongtyre Group Co. | Shandong Bayi Tyre Manufacture Co., Ltd | 9.00
Jiangsu General Science Technology Co., Ltd | Jiangsu General Science Technology Co., Ltd | 9.00
Jiangsu Hankook Tire Co., Ltd | Jiangsu Hankook Tire Co., Ltd | 9.00
Koryo International Industrial Limited | Chaoyang Long March Tyre Co., Ltd | 9.00
Koryo International Industrial Limited | Shandong Anchi Tyres Co., Ltd | 9.00
Koryo International Industrial Limited | Shandong Hugerubber Co., Ltd | 9.00
Koryo International Industrial Limited | Shandong Sangong Rubber Co., Ltd | 9.00
Koryo International Industrial Limited | Shandong Wanshine Tire Co., Ltd | 9.00
Koryo International Industrial Limited | Sichuan Tyre & Rubber Co., Ltd | 9.00
Kumho Tire Co., Inc. | Nanjing Kumho Tire Co., Ltd | 9.00
Longkou Xinglong Tyre Co., Ltd | Longkou Xinglong Tyre Co., Ltd | 9.00
Maxon Int'l Co., Limited | Shandong Anchi Tyres Co., Ltd | 9.00
Maxon Int'l Co., Limited | Triangle Tyre Co., Ltd | 9.00
Megalith Industrial Group Co., Ltd | Ningxia Shenzhou Tire Co., Ltd | 9.00
Megalith Industrial Group Co., Ltd | Shaanxi Yanchang Petroleum Group Rubber Co., Ltd | 9.00
Megalith Industrial Group Co., Ltd | Shandong Hawk International Rubber Industry Co., Ltd | 9.00
Megalith Industrial Group Co., Ltd | Shandong Huasheng Rubber Co., Ltd | 9.00
Megalith Industrial Group Co., Ltd | Shandong Kaixuan Rubber Co., Ltd | 9.00
Megalith Industrial Group Co., Ltd | Sichuan Kalevei Technology Co., Ltd | 9.00
Megalith Industrial Group Co., Ltd | Xingyuan Tire Group Co., Ltd | 9.00
Michelin Asia-Pacific Export (HK) Limited | Michelin Shenyang Tire Co., Ltd | 9.00
Newland Tyre Int'l Limited | Shandong Hawk International Rubber Industry Co., Ltd | 9.00
Noble Manufacture Co., Ltd | Qingdao Hongchi Tyre Co., Ltd | 9.00
Philixx Tyres and Accessories Limited | Shandong Huasheng Rubber Co., Ltd | 9.00
Philixx Tyres and Accessories Limited | Xingyuan Tire Group Co., Ltd | 9.00
Philixx Tyres and Accessories Limited | Shandong Vheal Group Co., Ltd | 9.00
Q&J Industrial Group Co., Limited | Chaoyang Langma Co., Ltd | 9.00
Q&J Industrial Group Co., Limited | Qiangdao Huanghai Rubber Co., Ltd | 9.00
Q&J Industrial Group Co., Limited | Shandong Hongsheng Rubber Co., Ltd | 9.00
Q&J Industrial Group Co., Limited | Shandong Huasheng Rubber Co., Ltd | 9.00
Q&J Industrial Group Co., Limited | Shandong Xingyuan Group | 9.00
Q&J Industrial Group Co., Limited | Sichuan Kailiwei Technology Co., Ltd | 9.00
Qingdao Au-Shine Group Co., Ltd | Shandong Gulun Rubber Co., Ltd | 9.00
Qingdao Champion International Trading Co., Ltd | Shandong Cocrea Tyre Co., Ltd | 9.00
Qingdao Champion International Trading Co., Ltd | Shandong Huasheng Rubber Co., Ltd | 9.00
Qingdao Champion International Trading Co., Ltd | Zhucheng Sinoroad Rubber Co., Ltd | 9.00
Qingdao Fudong Tyre Co., Ltd | Qingdao Fudong Tyre Co., Ltd | 9.00
Qingdao Fudong Tyre Co., Ltd | Qingdao Xiyingmen Double Camel Tyre Co., Ltd | 9.00
Qingdao Fullrun Tyre Corp. Ltd | Aeolus Tyre Co., Ltd | 9.00
Qingdao Fullrun Tyre Corp. Ltd | Chaoyang Long March Tyre Co., Ltd | 9.00
Qingdao Fullrun Tyre Corp. Ltd | Chonche Auto Double Happiness Tyre Corp. Ltd | 9.00
Qingdao Fullrun Tyre Corp. Ltd | Double Coin Holdings Ltd | 9.00
Qingdao Fullrun Tyre Corp. Ltd | Hangzhou Zhongce Rubber Co., Ltd | 9.00
Qingdao Fullrun Tyre Corp. Ltd | Qingdao Yellow Sea Rubber Co., Ltd | 9.00
Qingdao Fullrun Tyre Corp. Ltd | Qingdao Doublestar Tire Industrial Co., Ltd | 9.00
Qingdao Fullrun Tyre Corp. Ltd | Shandong Xingyuan International Trading Co., Ltd | 9.00
Qingdao Ge Rui Da Rubber Co., Ltd | Qingdao Ge Rui Da Rubber Co., Ltd | 9.00
Qingdao Honghua Tyre Factory | Qingdao Honghua Tyre Factory | 9.00
Qingdao Jinhaoyang International Co., Ltd | Double Coin Holdings Ltd | 9.00
Qingdao Jinhaoyang International Co., Ltd | Qingdao Fudong Tyre Co., Ltd | 9.00
Qingdao Jinhaoyang International Co., Ltd | Shaanxi Yanchang Petroleum Group Rubber Co., Ltd | 9.00
Qingdao Jinhaoyang International Co., Ltd | Zhucheng Guoxin Rubber Co., Ltd | 9.00
Qingdao Keter International Co., Ltd | Beijing Landy Tire & Tech Co., Ltd | 9.00
Qingdao Keter International Co., Ltd | Chaoyang Long March Tyre Co., Ltd | 9.00
Qingdao Keter International Co., Ltd | Chonche Auto Double Happiness Tyre Corp. Ltd | 9.00
Qingdao Keter International Co., Ltd | Deruibo Tire Co., Ltd | 9.00
Qingdao Keter International Co., Ltd | Qingdao Doublestar Tire Industrial Co., Ltd | 9.00
Qingdao Keter International Co., Ltd | Shandong Huasheng Rubber Co., Ltd | 9.00
Qingdao Keter International Co., Ltd | Shandong Huge Rubber Co., Ltd | 9.00
Qingdao Keter International Co., Ltd | Shandong Kaixuan Rubber Co., Ltd | 9.00
Qingdao Lakesea Tyre Co., Ltd | Chaoyang Long March Tyre Co., Ltd | 9.00
Qingdao Lakesea Tyre Co., Ltd | Chonche Auto Double Happiness Tyre Corp. Ltd | 9.00
Qingdao Lakesea Tyre Co., Ltd | Doublestar Dongfeng Tyre Co., Ltd | 9.00
Qingdao Lakesea Tyre Co., Ltd | Qingdao Doublestar Tire Industrial Co., Ltd | 9.00
Qingdao Lakesea Tyre Co., Ltd | Qingdao Yellow Sea Rubber Co., Ltd | 9.00
Qingdao Lakesea Tyre Co., Ltd | Shandong Kaixuan Rubber Co., Ltd | 9.00
Qingdao Lakesea Tyre Co., Ltd | Shandong Xingyuan International Trading Co., Ltd | 9.00
Qingdao Lakesea Tyre Co., Ltd | Shandong Yinbao Tyre Group Co., Ltd | 9.00
Qingdao Lakesea Tyre Co., Ltd | Sichuan Kalevei Technology Co., Ltd | 9.00
Qingdao Milestone Tyres Co., Limited | Shandong Hugerubber Co., Ltd | 9.00
Qingdao Milestone Tyres Co., Limited | Xingyuan Tire Group Co., Ltd | 9.00
Qingdao Nama Industrial Co., Ltd | Chaoyang Long March Tyre Co., Ltd | 9.00
Qingdao Nama Industrial Co., Ltd | China National Tyre And Rubber Guilin Co., Ltd | 9.00
Qingdao Nama Industrial Co., Ltd | Ningxia Shenzhou Tire Co., Ltd | 9.00
Qingdao Nama Industrial Co., Ltd | Qingdao Doublestar Tire Industrial Co., Ltd | 9.00
Qingdao Nama Industrial Co., Ltd | Shandong Hawk International Rubber Industry Co., Ltd | 9.00
Qingdao Nama Industrial Co., Ltd | Shandong Hengfeng Rubber & Plastic Co., Ltd | 9.00
Qingdao Nama Industrial Co., Ltd | Shandong Hengyu Science & Technology Co., Ltd | 9.00
Qingdao Nama Industrial Co., Ltd | Shandong Huasheng Rubber Co., Ltd | 9.00
Qingdao Nama Industrial Co., Ltd | Shandong Kaixuan Rubber Co., Ltd | 9.00
Qingdao Nama Industrial Co., Ltd | Shandong Wanda Boto Tyre Co., Ltd | 9.00
Qingdao Nama Industrial Co., Ltd | Shandong Wanshine Tyre Co., Ltd | 9.00
Qingdao Odyking Tyre Co., Ltd | Weifang Shunfuchang Rubber And Plastic Products Co., Ltd | 9.00
Qingdao Qianzhen Tyre Co., Ltd | Qingdao Qianzhen Tyre Co., Ltd | 9.00
Qingdao Qizhou Rubber Co., Ltd | Qingdao Qizhou Rubber Co., Ltd | 9.00
Qingdao Rhino International Co., Ltd | Dongying JinZheng Tyre Co., Ltd | 9.00
Qingdao Rhino International Co., Ltd | Qingdao Aonuo Group | 9.00
Qingdao Rhino International Co., Ltd | Shandong Jinwangda Tire Co., Ltd | 9.00
Qingdao Rhino International Co., Ltd | Weihai Ping'an Tyre Co., Ltd | 9.00
Qingdao Taihao Tyre Co., Ltd | Qingdao Taihao Tyre Co., Ltd | 9.00
Qingdao Tanco Tire Industrial & Commercial Co., Ltd | Hebei Tianrui Rubber Co., Ltd | 9.00
Qingdao Tanco Tire Industrial & Commercial Co., Ltd | Shandong Hawk International Rubber Co., Ltd | 9.00
Qingdao Tanco Tire Industrial & Commercial Co., Ltd | Xingyuan Tires Group | 9.00
Qingdao Yellow Sea Rubber Co., Ltd | Qingdao Yellow Sea Rubber Co., Ltd | 9.00
Qingdao Yongdao International Trade Co., Ltd | Aeolus Tyre Co., Ltd | 9.00
Qingdao Yongdao International Trade Co., Ltd | Bayi Rubber Co., Ltd | 9.00
Qingdao Yongdao International Trade Co., Ltd | Chonche Auto Double Happiness Tyre Corp. Ltd | 9.00
Qingdao Yongdao International Trade Co., Ltd | Double Coin Holdings Ltd | 9.00
Qingdao Yongdao International Trade Co., Ltd | Guizhou Tyre Co., Ltd | 9.00
Qingdao Yongdao International Trade Co., Ltd | Hangzhou Zhongce Rubber Co., Ltd | 9.00
Qingdao Yongdao International Trade Co., Ltd | Qingdao Doublestar Tire Industrial Co., Ltd | 9.00
Qingdao Yongdao International Trade Co., Ltd | Shandong Haohua Tire Co., Ltd | 9.00
Qingdao Yongdao International Trade Co., Ltd | Shandong Hawk International Rubber Industry Co., Ltd | 9.00
Qingdao Yongdao International Trade Co., Ltd | Shandong Hengfeng Rubber and Plastic Co., Ltd | 9.00
Qingdao Yongdao International Trade Co., Ltd | Shandong Hengyu Science & Technology Co., Ltd | 9.00
Qingdao Yongdao International Trade Co., Ltd | Shandong Huasheng Rubber Co., Ltd | 9.00
Qingdao Yongdao International Trade Co., Ltd | Shandong Kaixuan Rubber Co., Ltd | 9.00
Qingdao Yongdao International Trade Co., Ltd | Shandong Wosen Rubber Co., Ltd | 9.00
Qingdao Yongdao International Trade Co., Ltd | Shandong Yongtai Group Co., Ltd | 9.00
Qingdao Yongdao International Trade Co., Ltd | Shengtai Group Co., Ltd | 9.00
Qingdao Yongdao International Trade Co., Ltd | South China Tire & Rubber Co., Ltd | 9.00
Qingdao Yongdao International Trade Co., Ltd | Weifang Goldshield Tire Co., Ltd | 9.00
Qingdao Yongdao International Trade Co., Ltd | Weifang Shunfuchang Rubber & Plastic Products Co., Ltd | 9.00
Qingdao Yongdao International Trade Co., Ltd | Xingyuan Tire Group Co., Ltd | 9.00
Rodeo Tire Ltd | Shandong Province Sanli Tire Manufactured Co., Ltd | 9.00
Rodeo Tire Ltd | Sichuan Tyre & Rubber Co., Ltd | 9.00
Rover Tire Co., Ltd | Aeolus Tyre Co., Ltd | 9.00
Rover Tire Co., Ltd | Dongying Fangxing Rubber Co., Ltd | 9.00
Rover Tire Co., Ltd | Double Coin Holdings Ltd | 9.00
Rover Tire Co., Ltd | Qingdao Doublestar Tire Industrial Co., Ltd | 9.00
Rover Tire Co., Ltd | Shandong Hengyu Science & Technology Co., Ltd | 9.00
Rover Tire Co., Ltd | Shandong Huasheng Rubber Co., Ltd | 9.00
Rover Tire Co., Ltd | Shandong Kaixuan Rubber Co., Ltd | 9.00
Rover Tire Co., Ltd | Shandong Longyue Rubber Co., Ltd | 9.00
Rover Tire Co., Ltd | Shandong Yongsheng Rubber Group Co., Ltd | 9.00
Rover Tire Co., Ltd | Wanli Group Trade Limited | 9.00
Rover Tire Co., Ltd | Zhongce Rubber Group Company Limited | 9.00
Sailun Jinyu Group Co., Ltd | Sailun Jinyu Group Co., Ltd | 9.00
Sailun Jinyu Group Co., Ltd | Shenyang Peace Radial Tyre Manufacturing Co., Ltd | 9.00
Shandong Anchi Tyres Co., Ltd | Shandong Anchi Tyres Co., Ltd | 9.00
Shandong Haohua Tire Co., Ltd | Shandong Haohua Tire Co., Ltd | 9.00
Shandong Haoyu Rubber Co., Ltd | Shandong Haoyu Rubber Co., Ltd | 9.00
Shandong Hawk International Rubber Industry Co., Ltd | Shandong Hawk International Rubber Industry Co., Ltd | 9.00
Shandong Hengfeng Rubber & Plastic Co., Ltd | Shandong Hengfeng Rubber & Plastic Co., Ltd | 9.00
Shandong Hengyu Science & Technology Co., Ltd | Shandong Hengyu Science & Technology Co., Ltd | 9.00
Shandong Hengyu Science & Technology Co., Ltd | Shandong Hengyu Rubber Co., Ltd | 9.00
Shandong Homerun Tires Co., Ltd | Good Friend Tyre Co., Ltd | 9.00
Shandong Homerun Tires Co., Ltd | Shandong Kaixuan Rubber Co., Ltd | 9.00
Shandong Homerun Tires Co., Ltd | Shandong Wosen Rubber Co., Ltd | 9.00
Shandong Homerun Tires Co., Ltd | Shandong Yongsheng Rubber Group Co., Ltd | 9.00
Shandong Homerun Tires Co., Ltd | Weifang Shunfuchang Rubber and Plastic Products Co., Ltd | 9.00
Shandong Huasheng Rubber Co., Ltd | Shandong Huasheng Rubber Co., Ltd | 9.00
Shandong Hugerubber Co., Ltd | Shandong Hugerubber Co., Ltd | 9.00
Shandong Huitong Tyre Co., Ltd | Shandong Huitong Tyre Co., Ltd | 9.00
Shandong Kaixuan Rubber Co., Ltd | Shandong Kaixuan Rubber Co., Ltd | 9.00
Shandong Linglong Tyre Co., Ltd | Shandong Linglong Tyre Co., Ltd | 9.00
Shandong O'Green Tyres Co., Ltd | Shandong O'Green Tyres Co., Ltd | 9.00
Shandong Province Sanli Tire Manufactured Co., Ltd | Shandong Province Sanli Tire Manufactured Co., Ltd | 9.00
Shandong Sangong Rubber Co., Ltd | Shandong Sangong Rubber Co., Ltd | 9.00
Shandong Transtone Tyre Co., Ltd | Shandong Haohua Tire Co., Ltd | 9.00
Shandong Transtone Tyre Co., Ltd | Shandong Hongyu Rubber Co., Ltd | 9.00
Shandong Transtone Tyre Co., Ltd | Shandong Kaixuan Rubber Co., Ltd | 9.00
Shandong Transtone Tyre Co., Ltd | Weifang Yuelong Rubber Co., Ltd | 9.00
Shandong Vheal Group Co., Ltd | Shandong Vheal Group Co., Ltd | 9.00
Shandong Wanda Boto Tyre Co., Ltd | Shandong Wanda Boto Tyre Co., Ltd | 9.00
Shandong Wanshine Tire Co., Ltd | Shandong Wanshine Tire Co., Ltd | 9.00
Shandong Xingyuan Tire Group Co., Ltd | Shandong Xingyuan Tire Group Co., Ltd | 9.00
Shandong Yinbao Tyre Group Co., Ltd | Shandong Yinbao Tyre Group Co., Ltd | 9.00
Shandong Yongfeng Tyres Co., Ltd | Shandong Yongfeng Tyres Co., Ltd | 9.00
Shandong Yongsheng Rubber Group Co., Ltd | Shandong Yongsheng Rubber Group Co., Ltd | 9.00
Shandong Yongtai Group Co., Ltd | Shandong Yongtai Group Co., Ltd | 9.00
Shanghai Durotyre International Trading Co., Ltd | Chaoyang Long March Tyre Co., Ltd | 9.00
Shanghai Durotyre International Trading Co., Ltd | Double Happiness Tyre Industrial Co., Ltd | 9.00
Shengtai Group Co., Ltd | Shengtai Group Co., Ltd | 9.00
Shengtai Group Co., Ltd | Shandong Zhushenghua Rubber Co., Ltd | 9.00
Shenzhen Zhongjin Import & Export Co., Ltd | Hefei Wanli Tire Co., Ltd | 9.00
Shenzhen Zhongjin Import & Export Co., Ltd | South China Tire & Rubber Co. | 9.00
Shenzhen Zhongjin Import & Export Co., Ltd | Weifang Shunfuchang Rubber And Plastics Products Co., Ltd | 9.00
Shifeng Juxing Tire Co., Ltd | Shifeng Juxing Tire Co., Ltd | 9.00
Shuma Tyre International (Qingdao) Co., Ltd | Shandong Wanshine Tire Co., Ltd | 9.00
Sichuan Kalevei Technology Co., Ltd | Sichuan Kalevei Technology Co., Ltd | 9.00
Sinotyre International Group Co., Ltd | Dongying City Fangxing Rubber Co., Ltd | 9.00
Sinotyre International Group Co., Ltd | Shandong Hawk International Rubber Industry Co., Ltd | 9.00
Sportrak Tire Group Limited | Bayi Rubber Co., Ltd | 9.00
Sportrak Tire Group Limited | Shaanxi Yanchang Petroleum Group Rubber Co., Ltd | 9.00
Sportrak Tire Group Limited | Shandong Hawk International Rubber Industry Co., Ltd | 9.00
Tianjin Leviathan International Trade Co., Ltd | NDI Tire (Qingdao) Co., Ltd | 9.00
Tianjin Leviathan International Trade Co., Ltd | Qingdao Nama Industrial Co., Ltd | 9.00
Tianjin Leviathan International Trade Co., Ltd | Shandong Haohua Tire Co., Ltd | 9.00
Tianjin Leviathan International Trade Co., Ltd | Shandong Hawk International Rubber Industry Co., Ltd | 9.00
Tianjin Leviathan International Trade Co., Ltd | Xingyuan Tire Group Co., Ltd | 9.00
Top Tyre Industry Co., Limited | Shandong Hawk International Rubber Industry Co., Ltd | 9.00
Toyo Tire (Zhucheng) Co., Ltd | Toyo Tire (Zhucheng) Co., Ltd | 9.00
Triangle Tyre Co., Ltd | Triangle Tyre Co., Ltd | 9.00
Tyrechamp Group Co., Limited | South China Tire & Rubber Co., Ltd | 9.00
Tyrechamp Group Co., Limited | Zhongce Rubber Group Company Limited | 9.00
Wanli Group Trade Limited | South China Tire & Rubber Co., Ltd., | 9.00
Weifang Shunfuchang Rubber And Plastic Products Co., Ltd | Weifang Shunfuchang Rubber And Plastic Products Co., Ltd | 9.00
Weihai Ping'an Tyre Co., Ltd | Weihai Ping'an Tyre Co., Ltd | 9.00
Weihai Zhongwei Rubber Co., Ltd | Weihai Zhongwei Rubber Co., Ltd | 9.00
Wendeng Sanfeng Tyre Co., Ltd | Wendeng Sanfeng Tyre Co., Ltd | 9.00
Xuzhou Xugong Tyres Co., Ltd | Xuzhou Xugong Tyres Co., Ltd | 9.00
Xuzhou Xugong Tyres Co., Ltd | Armour Rubber Company Ltd | 9.00
Yokohama Rubber Co., Ltd | Suzhou Yokohama Tire Co., Ltd | 9.00
Yongsheng Group Co., Ltd | Shandong Yongsheng Rubber Group Co., Ltd | 9.00
Zhongce Rubber Group Co., Ltd | Zhongce Rubber Group Co., Ltd | 9.00
Zhucheng Guoxin Rubber Co., Ltd | Zhucheng Guoxin Rubber Co., Ltd | 9.00
China-Wide Entity |  | 22.57

Notifications to Interested Parties

This notice constitutes the antidumping duty order with respect to truck and bus tires from China pursuant to section 736(a) of the Act. Interested parties can find a list of antidumping duty orders currently in effect at http://enforcement.trade.gov/stats/iastats1.html.

This order is published in accordance with sections 736(a) of the Act and 19 CFR 351.211.

Dated: February 12, 2019.
Christian Marsh,
Deputy Assistant Secretary for Enforcement and Compliance.

Appendix

Scope of the Order

The scope of the order covers truck and bus tires. Truck and bus tires are new pneumatic tires, of rubber, with a truck or bus size designation. Truck and bus tires covered by this order may be tube-type, tubeless, radial, or non-radial.

Subject tires have, at the time of importation, the symbol “DOT” on the sidewall, certifying that the tire conforms to applicable motor vehicle safety standards. Subject tires may also have one of the following suffixes in their tire size designation, which also appear on the sidewall of the tire:

TR—Identifies tires for service on trucks or buses to differentiate them from similarly sized passenger car and light truck tires; and

HC—Identifies a 17.5 inch rim diameter code for use on low platform trailers.

All tires with a “TR” or “HC” suffix in their size designations are covered by this order regardless of their intended use.

In addition, all tires that lack one of the above suffix markings are included in the scope, regardless of their intended use, as long as the tire is of a size that is among the numerical size designations listed in the “Truck-Bus” section of the Tire and Rim Association Year Book, as updated annually, unless the tire falls within one of the specific exclusions set out below.

Truck and bus tires, whether or not mounted on wheels or rims, are included in the scope. However, if a subject tire is imported mounted on a wheel or rim, only the tire is covered by the scope. Subject merchandise includes truck and bus tires produced in the subject country whether mounted on wheels or rims in the subject country or in a third country. Truck and bus tires are covered whether or not they are accompanied by other parts, e.g., a wheel, rim, axle parts, bolts, nuts, etc. Truck and bus tires that enter attached to a vehicle are not covered by the scope.

Specifically excluded from the scope of this order are the following types of tires: (1) Pneumatic tires, of rubber, that are not new, including recycled and retreaded tires; (2) non-pneumatic tires, such as solid rubber tires; and (3) tires that exhibit each of the following physical characteristics: (a) The designation “MH” is molded into the tire's sidewall as part of the size designation; (b) the tire incorporates a warning, prominently molded on the sidewall, that the tire is for “Mobile Home Use Only;” and (c) the tire is of bias construction as evidenced by the fact that the construction code included in the size designation molded into the tire's sidewall is not the letter “R.”

The subject merchandise is currently classifiable under Harmonized Tariff Schedule of the United States (HTSUS) subheadings: 4011.20.1015 and 4011.20.5020. Tires meeting the scope description may also enter under the following HTSUS subheadings: 4011.69.0020, 4011.69.0090, 4011.70.00, 4011.90.80, 4011.99.4520, 4011.99.4590, 4011.99.8520, 4011.99.8590, 8708.70.4530, 8708.70.6030, 8708.70.6060, and 8716.90.5059.

While HTSUS subheadings are provided for convenience and for customs purposes, the written description of the subject merchandise is dispositive.

[FR Doc. 2019-02656 Filed 2-14-19; 8:45 am]

BILLING CODE 3510-DS-P